DEPARTMENT OF THE INTERIOR

National Park Service

[NPS-WASO-NAGPRA-23414; PPWOCRADN0-PCU00RP14.R50000]

Notice of Inventory Completion: U.S. Department of Agriculture, Forest Service, Deschutes National Forest, Bend, OR

AGENCY: National Park Service, Interior.

ACTION: Notice.

SUMMARY: The U.S. Department of Agriculture, Forest Service, Deschutes National Forest has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the Deschutes National Forest. If no additional requestors come forward, transfer of control of the human remains to the Indian tribes or Native Hawaiian organizations stated in this notice may proceed.

DATES: Representatives of any Indian tribe or Native Hawaiian organization not identified in this notice that wish to request transfer of control of these human remains should submit a written request with information in support of the request to the Deschutes National Forest at the address in this notice by July 31, 2017.

ADDRESSES: John Allen, Deschutes National Forest, 63095 Deschutes Market Road, Bend, OR 97701, telephone (541) 383-5512, email jpallen@fs.fed.us.

SUPPLEMENTARY INFORMATION: Notice is here given in accordance with the Native American Graves Protection and Repatriation Act (NAGPRA), 25 U.S.C. 3003, of the completion of an inventory of human remains under the control of the Deschutes National Forest, Bend, OR. The human remains were removed from Federal lands in central Oregon.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Deschutes National Forest professional staff, with assistance by the University of Oregon, Department of Anthropology, in consultation with representatives of the Burns Paiute Tribe (previously listed as the Burns Paiute Tribe of the Burns Paiute Indian Colony of Oregon), Confederated Tribes of the Warm Springs Reservation of Oregon, and Klamath Tribes.

History and Description of the Remains

In 1989, human remains representing, at minimum, three individuals were removed from individual homes of persons arrested for violations of the Archeological Resource Protection Act. The three individuals were apprehended while looting an archeological site on the Deschutes National Forest. Pre-contact human remains were discovered during a search of the individuals' residences. The Deschutes National Forest is unable to determine the exact provenience of the human remains, other than their origination from Federal lands in central Oregon. The human remains remained in possession of Federal law enforcement until 1997, when they were returned to the Deschutes National Forest. In 2009, the Deschutes National Forest contracted with Dr. Robert Pastor at the University of Oregon for the purpose of determining the number of individuals represented in the collection. Dr. Pastor determined that the set of human remains was comprised of three individuals. Individual 1 is identified as an adult male approximately 35-49 years of age, and of Amerindian ancestry. Individual 2 is identified as a young adult female between 15 and 19 years of age and of Amerindian ancestry. Individual 3 is identified as a juvenile of between 6 and 10 years of age and of Amerindian ancestry. No known individuals were identified. There are no associated funerary objects associated with the three individuals.

Determinations Made by the Deschutes National Forest

Officials of the Deschutes National Forest have determined that:

• Pursuant to 25 U.S.C. 3001(9), the human remains described in this notice are Native American based on the analysis performed by the University of Oregon Department of Anthropology.

• Pursuant to 25 U.S.C. 3001(9), the human remains described in this notice represent the physical remains of three individuals of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Burns Paiute Tribe (previously listed as the Burns Paiute Tribe of the Burns Paiute Indian Colony of Oregon), Confederated Tribes of the Warm Springs Reservation of Oregon, and Klamath Tribes.

• Treaties, Acts of Congress, or Executive Orders, indicate that the land from which the Native American human remains were removed is the aboriginal land of the Burns Paiute Tribe (previously listed as the Burns Paiute Tribe of the Burns Paiute Indian Colony of Oregon), Confederated Tribes of the Warm Springs Reservation of Oregon, and Klamath Tribes.

• Pursuant to 43 CFR 10.11(c)(1), the disposition of the human remains may be to the Burns Paiute Tribe (previously listed as the Burns Paiute Tribe of the Burns Paiute Indian Colony of Oregon), Confederated Tribes of the Warm Springs Reservation of Oregon, and Klamath Tribes.

Additional Requestors and Disposition

Representatives of any Indian tribe or Native Hawaiian organization not identified in this notice that wish to request transfer of control of these human remains should submit a written request with information in support of the request to John Allen, Deschutes National Forest, 63095 Deschutes Market Road, Bend, OR 97701, telephone (541) 383-5512, email jpallen@fs.fed.us, by July 31, 2017. After that date, if no additional requestors have come forward, transfer of control of the human remains to the Burns Paiute Tribe (previously listed as the Burns Paiute Tribe of the Burns Paiute Indian Colony of Oregon), Confederated Tribes of the Warm Springs Reservation of Oregon, and Klamath Tribes may proceed.

The Deschutes National Forest is responsible for notifying the Burns Paiute Tribe (previously listed as the Burns Paiute Tribe of the Burns Paiute Indian Colony of Oregon), Confederated Tribes of the Warm Springs Reservation of Oregon, and Klamath Tribes that this notice has been published.

Dated: May 16, 2017.
Melanie O'Brien,
Manager, National NAGPRA Program.

[FR Doc. 2017-13738 Filed 6-29-17; 8:45 am]

BILLING CODE 4312-52-P